FEDERAL COMMUNICATIONS COMMISSION

47 CFR Part 15

[ET Docket No. 01-278; FCC 01-290]

Part 15 Biennial Review

AGENCY: Federal Communications Commission.

ACTION: Proposed rule; denial.

SUMMARY: This document responds to a petition filed by National Association for Amateur Radio (ARRL). The petition requested that the Commission modify its rules that have or may have a significant economic impact on a substantial number of small entities. The Commission believes that these rules are sufficient to protect against harmful interference to authorized radio services and that additional advisory language in the Commission's rules is unnecessary. The ARRL petition is denied.

FOR FURTHER INFORMATION CONTACT: Hugh Van Tuyl, Office of Engineering and Technology, (202) 418-7506.

SUPPLEMENTARY INFORMATION: This is a summary of the Commission's Order, ET Docket No. 01-278, FCC 01-290, adopted October 2, 2001, and released October 15, 2001. The full text of this Commission decision is available on the Commission's Internet site at www.fcc.gov. It is available for inspection and copying during normal business hours in the FCC Reference Information Center, Room CY-A257, 445 12th Street, SW., Washington, DC, and also may be purchased from the Commission's duplication contractor, Qualex International, (202) 863-2893, Room CY-B402, 445 12th Street, SW., Washington, DC 20554.

Summary of the Order

1. In this Order, we deny a petition filed by the National Association for Amateur Radio (ARRL). The Regulatory Flexibility Act requires federal agencies to conduct periodic reviews of rules that have or might have a significant economic impact on a substantial number of small entities. Pursuant to section 610 of the Regulatory Flexibility Act, agencies must publish a list of such rules in the Federal Register and invite public comment on the rules. The Commission released a Public Notice on September 24, 1999 identifying rules for possible modification or elimination under the Regulatory Flexibility Act. See Public Notice FCC Seeks Comment Regarding Possible Revision or Elimination of Rules under the Regulatory Flexibility Act, 5 U.S.C. 610, Mimeo 95371, 64 FR 55671, October 14, 1999.

2. In response to this public notice, ARRL requested that the Commission modify § 15.17 of the rules. Section 15.17 of the rules provides a warning to manufacturers that they should consider the proximity and high power of both government and non-government operations when selecting operating frequencies.

3. In reviewing rules for modification or elimination under the Regulatory Flexibility Act, the Commission considers the following factors: “(1) the continued need for the rule, (2) the nature of complaints or comments received concerning the rule from the public, (3) the complexity of the rule, (4) the extent to which the rule overlaps, duplicates, or conflicts with other Federal rules, and, to the extent feasible, with State and local governmental rules; and (5) the length of time since the rule has been evaluated or the degree to which technology, economic conditions, or other factors have changed in the area affected by the rule.”

4. Section 15.17 was originally adopted in 1989, and has not been modified since that time. This is a simple rule enacted to alert manufacturers to the possibility that high-power radio services could cause interference to devices operating under part 15 of the rules. Since that time, the number of manufacturers and the number of part 15 devices have increased. Because this rule is merely advisory, there is no compliance burden on manufacturers and there is no conflict or overlap between this rule and other federal state or local requirements.

5. ARRL believes that the rule continues to be necessary because it alerts manufacturers of radio frequency devices of possible electromagnetic compatibility issues prior to obtaining an equipment authorization. However, ARRL believes that the rule addresses only half of the cautionary information to manufacturers, and that the rule should also caution manufacturers to avoid specification of operating frequencies for their devices that could result in interference to sensitive radio services. It states that this change could avoid the need for and cost of after-market interference resolution.

6. We continue to believe that this rule provides noteworthy guidance to manufacturers on the possibility of receiving interference. ARRL acknowledges the increasing importance of the rule; and, while we are sympathetic to ARRL's suggestion, we believe that the matter raised is already adequately covered in the rules. For example, part 15 contains limits that are designed to minimize the risk of interference caused to all authorized radio services. Further, part 15 equipment is required to operate on a non-interference basis, and users of such equipment must cease operation in the event that interference occurs. We believe that these rules are sufficient to protect against harmful interference to authorized radio services and that additional advisory language in § 15.17 is unnecessary. Therefore, the ARRL request to modify section 15.17 is denied.

7. The petition filed by the The National Association for Amateur Radio is denied.

Federal Communications Commission.
Magalie Roman Salas,
Secretary.

[FR Doc. 01-28413 Filed 11-9-01; 8:45 am]

BILLING CODE 6712-01-P